DEPARTMENT OF THE INTERIOR

National Park Service

[NPS-WASO-NAGPRA-NPS0027159; PPWOCRADN0-PCU00RP14.R50000]

Notice of Intent To Repatriate Cultural Items: George Fox University, Newberg, OR

AGENCY: National Park Service, Interior.

ACTION: Notice.

SUMMARY: The George Fox University, in consultation with the appropriate Indian Tribes or Native Hawaiian organizations, has determined that the cultural items listed in this notice meet the definition of sacred objects and objects of cultural patrimony. Lineal descendants or representatives of any Indian Tribe or Native Hawaiian organization not identified in this notice that wish to claim these cultural items should submit a written request to George Fox University. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to George Fox University at the address in this notice by March 11, 2019.

ADDRESSES: Rachel Thomas, George Fox University, 414 N Meridian #6109, Newberg, OR 97132, telephone (503) 554-2415, email rthomas@georgefox.edu.

SUPPLEMENTARY INFORMATION: Notice is here given in accordance with the Native American Graves Protection and Repatriation Act (NAGPRA), 25 U.S.C. 3005, of the intent to repatriate cultural items under the control of George Fox University, Newberg, OR, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

From 1880-1920, 26 cultural items were removed from Kake, AK, by missionaries and others visiting the area from Quaker congregations in Oregon. The 26 items are one 2018-023 woven basket, one 91-55 basket, one 032 wooden canoe paddle, one 033 wooden canoe paddle, one 2018-021 native basket, one 2018-022 native woven basket, one 2018-020 small basket, one 2018-020 small basket, one 2018-025 basket, one 87-29 Indian drum handle, one 2018-024 woven basket with handle, one 2018-067 pillow top, one part of a face from a totem pole, one ladle made from bone, one Cedarbark headdress, one medicine man mask, one rattle used by medicine man Rattle/Charm with Eagle and killer whale design, one carving-top for hat, one woven basket with initials FB, one beaded basket with initials FB, one 2018-081 miniature paddle, one 2018-078 miniature paddle, one 2018-079 miniature paddle, one Spruceroot basket, one red cedar charm used by Medicine man, and one 2018-080 model canoe.

Consultation with Frank Hughes, NAGPRA and Historic Properties coordinator for the Organized Village of Kake, has revealed the identity of these items. Hughes also was able to identify unique weaving patterns and other details indicating that the items were from Kake, and were created by members of the Tlingit tribe.

Determinations Made by George Fox University

Officials of George Fox University have determined that:

• Pursuant to 25 U.S.C. 3001(3)(C), the 26 cultural items described above are specific ceremonial objects needed by traditional Native American religious leaders for the practice of traditional Native American religions by their present-day adherents.

• Pursuant to 25 U.S.C. 3001(3)(D), the 26 cultural items described above have ongoing historical, traditional, or cultural importance central to the Native American group or culture itself, rather than property owned by an individual.

• Pursuant to 25 U.S.C. 3001(2), there is a relationship of shared group identity that can be reasonably traced between the sacred objects and objects of cultural patrimony, and the Organized Village of Kake.

Additional Requestors and Disposition

Lineal descendants or representatives of any Indian Tribe or Native Hawaiian organization not identified in this notice that wish to claim these cultural items should submit a written request with information in support of the claim to Rachel Thomas, George Fox University, 414 N Meridian #6109, Newberg, OR 97132, telephone (503) 554-2415, email rthomas@georgefox.edu, by March 11, 2019. After that date, if no additional claimants have come forward, transfer of control of the sacred objects and objects of cultural patrimony to the Organized Village of Kake may proceed.

The George Fox University is responsible for notifying the Metlakatla Indian Community, Annette Island River Reserve; Native Village of Eyak (Cordova); Native Village of Kotzebue; Native Village of Selawik; Native Village of Shishmaref; Noorvick Native Community; Organized Village of Kake; and the Sitka Tribe of Alaska that this notice has been published.

Dated: December 11, 2018.
Melanie O'Brien,
Manager, National NAGPRA Program.

[FR Doc. 2019-01632 Filed 2-7-19; 8:45 am]

BILLING CODE 4312-52-P